DEPARTMENT OF TRANSPORTATION

Coast Guard

33 CFR Part 117

[CGD01-00-001]

Drawbridge Operation Regulations: Chelsea River, MA

AGENCY: Coast Guard, DOT.

ACTION: Notice of temporary deviation from regulations.

SUMMARY: The Commander, First Coast Guard District, has issued a temporary deviation from the drawbridge operation regulations for the P.J. McArdle Bridge, mile 0.3, across the Chelsea River between Chelsea and East Boston, Massachusetts. This deviation from the regulations allows the bridge owner to keep the bridge in the closed position from 7 a.m. to 9 a.m. and from 4 p.m. to 6 p.m., Monday through Friday; except that, if high tide occurs during the closed period, the bridge must open promptly and fully for the passage of vessels when a request to open is given. This action is necessary to facilitate vehicular and pedestrian traffic during emergency repairs to the electrical system at the bridge.

DATES: This deviation is effective January 6, 2000, through March 5, 2000.

FOR FURTHER INFORMATION CONTACT: John McDonald, Project Officer, First Coast Guard District, at (617) 223-8364.

SUPPLEMENTARY INFORMATION: The P.J. McArdle Bridge, mile 0.3, across the Chelsea River between Chelsea and East Boston, Massachusetts, has a vertical clearance of 21 feet at mean high water, and 30 feet at mean low water in the closed position. The existing operating regulations in 33 CFR 117.593 require the bridge to open on signal at all times.

The bridge owner, the City of Boston, requested a temporary deviation from the operating regulations to facilitate vehicular and pedestrian traffic during electrical repairs at the bridge. The submarine electrical cable for the bridge was damaged during harbor dredging operations requiring emergency repairs to be implemented in order to restore bridge operation and facilitate marine traffic.

A temporary auxiliary operating system has been installed to open the bridge; however, it operates very slowly. Bridge openings may exceed an hour and a half which will create significant traffic delays until the bridge repairs are completed. This deviation is expected to help facilitate vehicular and pedestrian traffic during the week day rush hour periods.

This deviation to the operating regulations allows the City of Boston to keep the bridge in the closed position from 7 a.m. to 9 a.m. and from 4 p.m. to 6 p.m., Monday through Friday; except that, if high tide occurs during the closed period, the bridge must open promptly and fully for the passage of vessels when a request to open is given.

In accordance with 33 CFR 117.35(c), this work will be performed with all due speed in order to return the bridge to normal operation as soon as possible. This deviation from the operating regulations is authorized under 33 CFR 117.35.

Dated: January 7, 2000.
Robert F. Duncan,
Captain, U.S. Coast Guard, Acting Commander, First Coast Guard District.

[FR Doc. 00-1029 Filed 1-14-00; 8:45 am]

BILLING CODE 4910-15-U